DEPARTMENT OF THE INTERIOR

Minerals Management Service (MMS)

Geological and Geophysical Exploration (G&G) on the Atlantic Outer Continental Shelf (OCS)

AGENCY: Minerals Management Service, Interior.

ACTION: Notice of Intent (NOI) To Prepare a Programmatic Environmental Impact Statement (PEIS) and Call for Interest for Future Industry G&G Activity on the Atlantic OCS.

SUMMARY: Pursuant to the regulations implementing the procedural provisions of the National Environmental Policy Act (NEPA), MMS is announcing its intent to prepare a PEIS to evaluate potential environmental effects of multiple G&G activities on the Atlantic OCS. This NOI initiates the scoping process for this PEIS and also seeks interest from other Federal agencies, and State, tribal, and local governments to consider becoming cooperating agencies in the preparation of the EIS. Through the scoping process, Federal, state, and local government agencies and other interested parties have the opportunity to aid MMS in determining the significant issues and alternatives for analysis in the PEIS. Comments received in response to the NOI will assist MMS in developing the scope of the PEIS. This early planning and consultation step is important to ensure that all interests and concerns are communicated to MMS as it develops this PEIS and ultimately for future decisions regarding G&G operations under MMS regulatory authority.

In order to assist MMS in developing the scope of G&G activities to be covered within the PEIS, we are also using this NOI to solicit information from industry on any potential interest for future G&G activities on the Atlantic OCS, including seismic surveys (high-resolution surveys as well as various types of seismic exploration and development surveys), side-scan sonar surveys, all types of electromagnetic surveys, geological and geochemical sampling, and remote sensing (including gravity and magnetic surveys) and the geographic areas of these activities. The MMS will specifically use this information to develop the scope of the PEIS scenario and its proposed action area. If details on activities, desired geographic locations, or other relevant information are not provided to MMS through this Call for Interest, then this information may not be included in the PEIS scenario and may require additional NEPA analysis if proposed at a later date.

With this NOI, MMS notes that this PEIS is dependent upon availability of funding. MMS welcomes participation from outside sources consistent with appropriate authorities and mechanisms to award a contract to conduct the essential analyses and prepare the PEIS. The MMS would maintain sole oversight over selection and management of contractors and would maintain full authority over the content of the PEIS, protected resources analyses, and final decisions. Outside sources that are considering participating in this PEIS process should submit an expression of interest, along with the requested information on potential activities and geographic scope, to the MMS, Gulf of Mexico OCS Region's Regional Supervisor for Leasing and Environment (see Comments section for contact information).

If a PEIS is funded and started in early 2009, MMS estimates completion of the PEIS by late 2010. Without funding, completion of the PEIS would be uncertain.

SUPPLEMENTARY INFORMATION:

Authority: MMS has the authority under the Outer Continental Shelf Lands Act (OCSLA as amended; 43 U.S.C. 1331-1356, (1994)) and its implementing regulations at 30 CFR Part 251 to issue prelease permits for the collection of G&G data. These regulations discuss and identify both the authority and applicability of this responsibility as well as discussing the types of G&G activities that require a permit, the instructions for filing a permit, and the obligations and rights under a permit. This NOI is published pursuant to the regulations (40 CFR 1501.7) implementing the provisions of the National Environmental Policy Act of 1969, as amended (42 U.S.C. 4321 et seq. (1988)) (NEPA).

Background: This NOI is the initial step in the NEPA process. The MMS plans to fully comply with all pertinent laws, rules, and regulations and will allow the public an adequate opportunity to participate in the NEPA process, including through scoping meetings and public comment periods.

The PEIS will evaluate environmental impacts of multiple G&G activities on the Atlantic OCS, and more specifically the proposed action area developed for the draft PEIS (see description of action area), subject to MMS regulatory authority. These activities include, but are not limited to, seismic surveys, side-scan sonar surveys, electromagnetic surveys, geological and geochemical sampling, and remote sensing. More information on G&G activities can be found on pages 13-15 of MMS's Leasing Oil and Natural Gas Resources: Outer Continental Shelf (see http://www.mms.gov/ld/PDFs/GreenBook-LeasingDocument.pdf) and MMS's Geological and Geophysical Exploration for Mineral Resources on the Gulf of Mexico Outer Continental Shelf: Final Programmatic Environmental Assessment (see http://www.gomr.mms.gov/PDFs/2004/2004-054.pdf).

The PEIS will be completed prior to authorizing any new, large-scale G&G activities on the Atlantic OCS. In the interim, MMS may still consider small scale, limited permit requests but only if a NEPA environmental assessment is conducted and finds there is no potential for significant impacts from that specific proposed activity nor that the cumulative nature of a collection of smaller, limited surveys would result in significant impacts under NEPA.

Description of Area: The action area to be evaluated under this PEIS may include the entire Atlantic OCS but will ultimately be determined based on information provided to MMS by industry and public commentors as a result of this NOI and Call for Interest.

Request for Cooperating Agencies: The DOI policy is to invite other Federal agencies, and State, tribal, and local governments to consider becoming cooperating agencies in the preparation of an EIS. Per Council of Environmental Quality (CEQ) regulations, qualified agencies and governments are those with “jurisdiction by law or special expertise.” Cooperating agency status neither enlarges nor diminishes the final decisionmaking authority of any agency involved in the NEPA process.

The MMS invites qualified government entities to inquire about cooperating agency status for this EIS. Upon request, the MMS will provide qualified cooperating agencies with a written summary of ground rules for cooperating agencies, including time schedules and critical action dates, milestones, responsibilities, scope and detail of cooperating agencies' contributions, and handling of predecisional information. The MMS anticipates this summary will form the basis for a Memorandum of Understanding between the MMS and each cooperating agency. You should also consider the CEQ's “Factors for Determining Cooperating Agency Status.” This document is available on the CEQ Web site at: http://ceq.eh.doe.gov/nepa/regs/cooperating/cooperatingagencymemofactors.html. Even if your organization is not a cooperating agency, you will continue to have opportunities to provide information and comments to MMS during the normal public input phases of the NEPA/EIS process.

Notice of Public Scoping Meetings on the PEIS: MMS will hold public scoping meetings on the PEIS. The purpose of these meetings will be to solicit comments on the scope of the PEIS, identify significant issues to be analyzed in the PEIS, and identify possible alternatives to a proposed action. The public scoping meetings will be scheduled at a later date and a Federal Register notice will be published announcing the date, time, and location of the meetings and will include a map of the Atlantic OCS.

Comments: In addition to participation in the scoping meetings, Federal, state, and local government agencies and other interested parties are invited to send their written comments on the scope of the PEIS, significant issues that should be addressed, alternatives that should be considered, scenario development, and the types of G&G activities and geographical areas of interest on the Atlantic OCS. In particular, MMS would like to know the interest level and geographic location for seismic exploration activity (2D and 3D), magnetotelluric and controlled source electromagnetic surveys, coring, deep and/or shallow stratigraphic test wells, geochemical surveys, aeromagnetic, and aerogravity surveys.

Comments may be submitted in one of the following two ways:

1. In written form enclosed in an envelope labeled “Comments on the PEIS Scope” and mailed (or hand carried) to the Regional Supervisor, Leasing and Environment (MS 5410), Minerals Management Service, Gulf of Mexico OCS Region, 1201 Elmwood Park Boulevard, New Orleans, Louisiana 70123-2394.

2. Electronically to the MMS e-mail address: GGEIS@mms.gov.

If you would like your name added to the MMS mailing list, please send an e-mail to the MMS e-mail address: GGEIS@mms.gov with the subject line “Atlantic OCS mailing list.” For further information regarding the Atlantic OCS G&G PEIS please visit our Web site at: http://www.gomr.mms.gov/homepg/offshore/atlocs/atlocs.html.

DATES: Comments should be submitted no later than March 23, 2009, at the addresses specified above. If a PEIS is funded and started by early 2009, MMS estimates completion of the PEIS by late 2010.

FOR FURTHER INFORMATION CONTACT: For information on this NOI, please contact Mr. Casey Rowe, Minerals Management Service, Gulf of Mexico OCS Region, 1201 Elmwood Park Boulevard (MS 5412), New Orleans, Louisiana 70123-2394, telephone (504) 736-2781. For information on MMS policies associated with this NOI, please contact Mr. Joe Christopher, Regional Supervisor, Leasing and Environment (MS 5410), Minerals Management Service, Gulf of Mexico OCS Region, 1201 Elmwood Park Boulevard, New Orleans, Louisiana 70123-2394, telephone (504) 736-2759.

Dated: January 9, 2009.
Randall B. Luthi,
Director, Minerals Management Service.

[FR Doc. E9-1063 Filed 1-16-09; 8:45 am]

BILLING CODE 4310-MR-P